DEPARTMENT OF DEFENSE

Office of the Secretary

Final Environmental Impact Statement (EIS) Addressing Campus Development at Fort Meade

AGENCY: Department of Defense (DoD).

ACTION: Notice of availability; request for comments.

SUMMARY: The Department of Defense (DoD) announces the availability of the Final Environmental Impact Statement (EIS) as part of the environmental planning process for a Campus Development Project at Fort George G. Meade, Maryland (hereafter referred to as Fort Meade). The DoD proposes the development of a portion of Fort Meade (referred to as “Site M”) as an operational complex and to construct and operate consolidated facilities to meet the National Security Agency's (NSA) and Intelligence Community's continually evolving requirements. The purpose of the Proposed Action is to provide facilities that fully support the Intelligence Community's mission. The need for the action is to consolidate multiple agencies' efforts to ensure capabilities for current and future missions as directed by Congress and the President. The EIS considered three alternative development options, in which total build-out could reach 5.8 million square feet, and the No Action Alternative.

The Final EIS is available for a 30-day period following publication of this Notice of Availability (NOA). Comments received on the Draft EIS (per the Draft EIS NOA published in the Federal Register on June 25, 2010 and July 2, 2010) have been considered during preparation of the Final EIS and are included in Appendix C of the EIS. Following this 30-day waiting period, the DOD intends to issue a Record of Decision (ROD) for the EIS.

DATES: Written comments must be received by October 29, 2010.

ADDRESSES: Written comments must be addressed to: “Campus Development EIS” c/o HDR|e²M, 2600 Park Tower Dr, Suite 100, Vienna, VA 22180 or sent by e-mail to campuseis@hdrinc.com.

Additional copies of the Final EIS are available at the Fort Meade Main Post Library, 4418 Llewellyn Avenue, Fort Meade, MD 20755; the Anne Arundel County Public Library North County Area Branch, 1010 Eastway, Glen Burnie, MD 21060; and the Anne Arundel County Public Library West County Area Branch, 1325 Annapolis Road, Odenton, MD 21113.

FOR FURTHER INFORMATION CONTACT: For further information or to request copies of the Final EIS, call (301) 688-6524 or send an e-mail to campuseis@hdrinc.com.

Dated: September 24, 2010.
Mitchell S. Bryman,
Alternate OSD Federal Register Liaison Officer, Department of Defense.

[FR Doc. 2010-24426 Filed 9-28-10; 8:45 am]

BILLING CODE 5001-06-P